DEPARTMENT OF THE INTERIOR

National Park Service

Notice of Intent to Repatriate Cultural Items: Seton Hall University Museum, Seton Hall University, South Orange, NJ; Correction

AGENCY: National Park Service, Interior.

ACTION: Notice; correction.

Notice is here given in accordance with the Native American Graves Protection and Repatriation Act (NAGPRA), 25 U.S.C. 3005, of the intent to repatriate cultural items in the possession of the Seton Hall University Museum, Seton Hall University, South Orange, NJ, that meet the definition of “sacred objects” and “objects of cultural patrimony” under 25 U.S.C. 3001.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice corrects an error in the telephone number of the Seton Hall University Museum and adds an e-mail address. In the Federal Register of May 23, 2008 (FR Doc E-8-11572, Pages 30159-30160], paragraph 8 is corrected by substituting the following paragraph:

Representatives of any other Indian tribe or Nation that believes itself to be culturally affiliated with the sacred objects/objects of cultural patrimony should contact Dr. Thomas W. Kavanagh, Seton Hall University Museum, Seton Hall University, 400 South Orange Ave., South Orange, NJ 07079, telephone (973) 275-5873 or e-mail kavanath@shu.edu, before August 13, 2008. Repatriation of the sacred objects/objects of cultural patrimony to the Onondaga Nation of New York may proceed after that date if no additional claimants come forward.

The Seton Hall University Museum is responsible for notifying the Cayuga Nation of New York; Oneida Nation of New York; Oneida Tribe of Indians of Wisconsin; Onondaga Nation of New York; Seneca Nation of New York; Seneca-Cayuga Tribe of Oklahoma; Saint Regis Mohawk Tribe, New York; Tonawanda Band of Seneca Indians of New York; Tuscarora Nation of New York; and Haudenosaunee Standing Committee on Burial Rules and Regulations, a non-federally recognized Indian organization, that this notice has been published.

Dated: June 16, 2008
Sherry Hutt,
Manager, National NAGPRA Program.

[FR Doc. E8-15910 Filed 7-11-08; 8:45 am]

BILLING CODE 4312-50-S